DEPARTMENT OF AGRICULTURE

National Agricultural Statistics Service

Notice of Intent To Suspend the July Sheep and Goat Survey, and Postpone the Renewal of the Census of Aquaculture, and the Tenure, Ownership and Transition of Agricultural Land (TOTAL) Surveys

AGENCY: National Agricultural Statistics Service, USDA.

ACTION: Notice of suspension of data collection and publication.

SUMMARY: This notice announces the intention of the National Agricultural Statistics Service (NASS) to suspend one currently approved information collection, (July Sheep and Goat Survey), and to indefinitely postpone the renewal of two periodic data collections (Census of Aquaculture and the Tenure, Ownership and Transition of Agricultural Land (TOTAL) survey formerly known as the Agricultural Economics and Land Ownership Survey (AELOS)) and their associated publications due to budgetary cutbacks.

FOR FURTHER INFORMATION CONTACT: Joseph T. Reilly, Associate Administrator, National Agricultural Statistics Service, U.S. Department of Agriculture, (202) 720-4333.

SUPPLEMENTARY INFORMATION: Title: Suspension of July Sheep and Goat Survey and postponement of Census of Aquaculture and TOTAL surveys.

OMB Control Numbers: 0535-0213, 0535-0237, 0535-0240.

Expiration Dates of Approval: July Sheep and Goat survey—March 31, 2014, Census of Aquaculture and TOTAL are both currently inactive.

Type of Request: To suspend one currently approved information collection and to indefinitely postpone the renewal of two periodic data collections.

Abstract: The primary functions of the National Agricultural Statistics Service (NASS) include the collection of data and the preparation and issuance of State and national estimates of crop and livestock production, disposition, prices, and environmental and economic factors.

The July Sheep and Goat survey is a follow on survey to the January Sheep and Goat survey. These two surveys are included in a larger group of monthly and quarterly crop and livestock surveys included in the Agricultural Surveys Program (0535-0213) docket. Only the July Sheep and Goat survey will be suspended from this docket.

The Census of Aquaculture is a follow on survey to the Census of Agriculture. This survey is normally conducted every five years. The last time this survey was conducted was in 2006 for the reference year of 2005. NASS will postpone the renewal of this data collection indefinitely.

The Tenure, Ownership and Transition of Agricultural Land (TOTAL) survey, (formerly known as the Agricultural Economics and Land Ownership Survey (AELOS) is also a follow on survey to the Census of Agriculture. This survey is normally conducted once about every ten years. The last time this survey was conducted was in 2000 for the reference year of 1999.

NASS will suspend these information collections as of July 6, 2011 due to budget constraints. NASS will not publish the Sheep and Goat report for July or any reports for the Census of Aquaculture or TOTAL survey unless there is a change in the anticipated budget shortfall.

Authority: These data were collected under authority of 7 U.S.C. 2204(a). Individually identifiable data collected under this authority are governed by Section 1770 of the Food Security Act of 1985, 7 U.S.C. 2276, which requires USDA to afford strict confidentiality to non-aggregated data provided by respondents.

Estimate of Burden: There will be no further public reporting burden for any of these three information collections.

Signed at Washington, DC, on June 16, 2011.
Joseph T. Reilly,
Associate Administrator.

[FR Doc. 2011-16803 Filed 7-5-11; 8:45 am]

BILLING CODE 3410-20-P